NATIONAL FOUNDATION FOR THE ARTS AND THE HUMANITIES

Institute of Museum and Library Services

Notice of Proposed Information Collection Requests: 2019-2021 IMLS Collections Assessment for Preservation Program

AGENCY: Institute of Museum and Library Services, National Foundation for the Arts and the Humanities.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. By this notice, IMLS is soliciting comments concerning the Collections Assessment for Preservation (CAP) Program designed to support collections assessments for small and medium-sized museums throughout the nation.

A copy of the proposed information collection request can be obtained by contacting the individual listed below in the ADDRESSES section of this notice.

DATES: Written comments must be submitted to the office listed in the addressee section below on or before January 24, 2018.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Dr. Sandra Webb, Senior Advisor, Office of the Director, Institute of Museum and Library Services, 955 L'Enfant Plaza North SW., Suite 4000, Washington, DC 20024-2135. Dr. Webb can be reached by Telephone: 202-653-4718 Fax: 202-653-4608, or by email at swebb@imls.gov, or by teletype (TTY/TDD) for persons with hearing difficulty at 202-653-4614.

SUPPLEMENTARY INFORMATION:

I. Background

The Institute of Museum and Library Services is the primary source of federal support for the nation's approximately 120,000 libraries and 35,000 museums and related organizations. Our mission is to inspire libraries and museums to advance innovation, lifelong learning, and cultural and civic engagement. Our grant making, policy development, and research help libraries and museums deliver valuable services that make it possible for communities and individuals to thrive. To learn more, visit www.imls.gov.

II. Current Actions

The Collections Assessment for Preservation Program (CAP) is designed to support collections assessments for small and medium-sized museums throughout the nation. The collections assessment is a study of all of the institution's collections, buildings and building systems, as well as its policies and procedures relating to collections care. Participants who complete the program receive an assessment report with prioritized recommendations to improve collections care.

Agency: Institute of Museum and Library Services.

Title: Collection Assessment for Preservation Program Forms.

OMB Number: 3137-0103.

Frequency: Once per application.

Affected Public: Museum applicants.

Number of Respondents: 775.

Estimated Average Burden per Response: 4 hours.

Estimated Total Annual Burden: 392 hours.

Total Annualized Capital/Startup Costs: n/a.

Total Annual Costs: $10,732.

Public Comments Invited: Comments submitted in response to this notice will be summarized and/or included in the request for OMB's clearance of this information collection.

FOR FURTHER INFORMATION CONTACT: Dr. Sandra Webb, Senior Advisor, Office of the Director, Institute of Museum and Library Services, 955 L'Enfant Plaza North SW., Suite 4000, Washington, DC 20024-2135. Dr. Webb can be reached by Telephone: 202-653-4718 Fax: 202-653-4608, or by email at swebb@imls.gov, or by teletype (TTY/TDD) for persons with hearing difficulty at 202-653-4614.

Dated: November 21, 2017.
Kim Miller,
Grants Management Specialist, Office of Chief Information Officer.

[FR Doc. 2017-25594 Filed 11-27-17; 8:45 am]

BILLING CODE 7036-01-P